Title 3—

The President

Executive Order 13256 of February 12, 2002

President's Board of Advisors on Historically Black Colleges and Universities

By the authority vested in me as President by the Constitution and the laws of the United States of America, in order to advance the development of the Nation's full human potential and to advance equal opportunity in higher education, to strengthen the capacity of historically black colleges and universities to provide the highest quality education, and to increase opportunities for these institutions to participate in and benefit from Federal programs, as do other colleges and universities, it is hereby ordered as follows:

Section 1. There is established, in the Office of the Secretary of Education, a Presidential advisory committee entitled the “President's Board of Advisors on Historically Black Colleges and Universities” (Board). The Board shall prepare and issue an annual report to the President on the results of the participation of historically black colleges and universities in Federal programs. The Board also shall provide advice to the President and to the Secretary of Education (Secretary) regarding the needs of historically black colleges and universities in the areas of infrastructure, academic programs, and faculty and institutional development. In the annual report to the President, the Board shall make recommendations on how to increase the private sector role, including the role of private foundations, in strengthening historically black colleges and universities. Particular emphasis should also be given in the report to enhancing institutional planning and development, strengthening fiscal stability and financial management, and improving institutional infrastructure, including the use of technology, to ensure the long-term viability and enhancement of these institutions.

Sec. 2. The Board shall be appointed by the President. The Board membership shall include sitting presidents of historically black colleges and universities, representatives of other higher education institutions, business and financial leaders, representatives of private foundations, and secondary school administrators. The President shall designate a Chair or Co-Chairs from among the members.

Sec. 3. The White House Initiative on Historically Black Colleges and Universities (Initiative), located in the Office of the Secretary of Education, shall: (1) provide staff, resources, and assistance to the Board; (2) assist the Secretary in performing the liaison function between the executive branch and historically black colleges and universities; and (3) serve the Secretary in carrying out the responsibilities described in section 6 of this order.

Sec. 4. To carry out this order, each executive department and agency identified by the Secretary may, consistent with applicable law and regulations, enter into appropriate grants, contracts, or cooperative agreements with historically black colleges and universities. The head of each department or agency so identified shall establish an annual plan that will establish clear goals for how the department or agency intends to increase the capacity of historically black colleges and universities to compete effectively for grants, contracts, or cooperative agreements and to encourage historically black colleges and universities to participate in Federal programs. The department's or agency's annual goal should be clearly reflected in the department's or agency's annual budget submission to the Office of Management and Budget. To facilitate the attainment of these goals, the head of each department or agency identified by the Secretary shall provide, as appropriate, technical assistance and information to historically black colleges and universities regarding the program activities of the department or agency and the preparation of applications or proposals for grants, contracts, or cooperative agreements.

Sec. 5. Each executive department and agency identified by the Secretary shall appoint a senior official, who is a full-time officer of the Federal Government, to report directly to the department or agency head with respect to department or agency activity under this order, and to serve as liaison to the Board and to the Initiative. To the extent permitted by law and regulations, each executive department and agency identified by the Secretary shall provide appropriate information requested by the Board and staff pursuant to the order.

Sec. 6. Each executive department and agency identified by the Secretary shall develop an annual plan for, and shall document the agency's effort in, increasing the capacity of historically black colleges and universities to participate in Federal programs. Each department's and agency's plan shall describe new or existing department and agency programs and measurable objectives for proposed department and agency actions, in connection with those programs, to achieve the purposes of this order. These plans shall be submitted at such time and in such form as the Secretary shall require. In consultation with the participating departments and agencies, the Secretary shall review the plans and develop, with the advice of the Board, an integrated Annual Federal Plan for Assistance to Historically Black Colleges and Universities for submission to the President. The Secretary shall provide the president of each historically black college and university with a copy of, and an opportunity to comment on, the proposed Annual Federal Plan prior to its submission to the President. Each participating department and agency shall submit to the Secretary an Annual Performance Report that shall measure each department's and agency's performance against the objectives set forth in the department's or agency's annual plan. The Secretary shall be responsible for monitoring compliance with the Annual Federal Plan after it is approved by the President.

Sec. 7. In developing its annual plan, each executive department and agency identified by the Secretary shall emphasize programs and activities that develop the capacity of historically black colleges and universities to contribute to the development of human capital and to strengthen America's economic and technological base through: (1) infrastructure development and acquisitions for instruction and research; (2) student and faculty doctoral fellowships and faculty development; (3) domestic and international faculty and student exchanges and study-abroad opportunities; (4) undergraduate and graduate student internships; and (5) summer, part-time, and permanent employment opportunities.

Sec. 8. Each year, the Board shall report to the President on the progress achieved in enhancing the capacity of historically black colleges and universities to serve their students, including findings and recommendations for individual departments and agencies in connection with their Annual Performance Reports, as described in section 6 of this order.

Sec. 9. The Board, in consultation with the Department of Education and other executive departments and agencies, shall develop a Private Sector Strategy to assist historically black colleges and universities in: (1) increasing voluntary private-sector contributions to support the enhancement of endowments and the overall financial stability of such institutions; (2) improving and enhancing the quality and number of private-sector partnerships focused on academic program development, student achievement and faculty development, cooperative research and development projects, and faculty exchanges; and (3) improving information management, and facilities, and strengthening academic course offerings.

Sec. 10. (a) The provisions in this Executive Order shall be implemented to the fullest extent permitted by law.

(b) The Department of Education shall provide funding and administrative support for the Board and the Initiative.

(c) Members of the Board shall serve without compensation, but shall be reimbursed for all travel expenses, including per diem in lieu of subsistence, as authorized by law;

(d) Insofar as the Federal Advisory Committee Act, as amended, may apply to the Board, any functions of the President under that Act, except for those in section 6 of that Act, shall be performed by the Department of Education, in accordance with the guidelines that have been issued by the Administrator of General Services.

Sec. 11. Executive Order 12876 of November 1, 1993, as amended, is hereby revoked.

B

THE WHITE HOUSE,

February 12, 2002.

[FR Doc. 02-3826

Filed 2-13-02; 8:45 am]

Billing code 3195-01-P